ENVIRONMENTAL PROTECTION AGENCY

40 CFR Part 82

[EPA-HQ-OAR-2017-0213; FRL-9972-47-OAR]

RIN 2060-AT43

Protection of Stratospheric Ozone: Refrigerant Management Regulations for Small Cans of Motor Vehicle Refrigerant

AGENCY: Environmental Protection Agency (EPA).

ACTION: Withdrawal of direct final rule.

SUMMARY: The Environmental Protection Agency (EPA) received adverse comment on the direct final rule titled “Protection of Stratospheric Ozone: Refrigerant Management Regulations for Small Cans of Motor Vehicle Refrigerant,” published on September 28, 2017. Therefore, through this document we are withdrawing that direct final rule.

DATES: Effective December 26, 2017, EPA withdraws the direct final rule published at 82 FR 45202, on September 28, 2017.

FOR FURTHER INFORMATION CONTACT: Sara Kemme by regular mail: U.S. Environmental Protection Agency, Stratospheric Protection Division (6205T), 1200 Pennsylvania Avenue NW, Washington, DC 20460; by telephone: (202) 566-0511; or by email: kemme.sara@epa.gov.

SUPPLEMENTARY INFORMATION: The EPA received adverse comment on the direct final rule “Protection of Stratospheric Ozone: Refrigerant Management Regulations for Small Cans of Motor Vehicle Refrigerant,” published on September 28, 2017 (82 FR 45202). The direct final rule stated that if the Agency received adverse comment by October 30, 2017, the direct final rule would not take effect and EPA would publish a timely withdrawal in the Federal Register. Because we received adverse comment on that direct final rule during that comment period we are withdrawing the direct final rule in this document. We will address relevant comments in any subsequent final action, which would be based on the parallel proposed rule also published on September 28, 2017 (82 FR 45253). The Agency intends to act expeditiously on the parallel proposed rule. As stated in the direct final rule and the parallel proposed rule, there will not be a second comment period on this action.

List of Subjects in 40 CFR Part 82

Environmental protection, Air pollution control, Chemicals, Reporting and recordkeeping requirements.

Dated: December 15, 2017.
E. Scott Pruitt,
Administrator.

Accordingly, the amendments to 40 CFR 82.154 published on September 28, 2017 (82 FR 45202) are withdrawn as of December 26, 2017.

[FR Doc. 2017-27799 Filed 12-22-17; 8:45 am]

BILLING CODE 6560-50-P